DEPARTMENT OF JUSTICE

Notice of Lodging Proposed Consent Decree

In accordance with Departmental Policy, 28 CFR 50.7, notice is hereby given that a proposed Consent Decree in United States v. John Raftopoulos, et al., Civil Action No. 1:20-CV-03166-SKC, was lodged with the United States District Court for the District of Colorado on March 18, 2021.

This proposed Consent Decree concerns a complaint filed by the United States against Defendants John Raftopoulos, Diamond Peak Cattle Company, LLC, and Rancho Greco Limited, LLC, pursuant to Section 309 of the Clean Water Act, 33 U.S.C. 1319, to obtain injunctive relief from and impose civil penalties against the Defendants for violating the Clean Water Act by discharging pollutants without a permit into waters of the United States. The complaint also seeks to obtain injunctive relief and damages from the Defendants for violating Sections 302, 303, and 310 of the Federal Land Policy and Management Act of 1976, 43 U.S.C. 1732, 1733 and 1740, and for trespass on federal public lands. The proposed Consent Decree resolves these allegations by requiring the Defendants to restore the impacted areas and to pay civil penalties and damages.

The Department of Justice will accept written comments relating to this proposed Consent Decree for thirty (30) days from the date of publication of this Notice. Please address comments to Alan Greenberg, United States Department of Justice, Environment and Natural Resources Division, Environmental Defense Section, 999 18th Street, Suite 370, Denver, CO 80202, pubcomment_eds.enrd@usdoj.gov, and refer to United States v. Raftopoulos, et al., DJ #90-5-1-1-21104.

The proposed Consent Decree may be examined at the Clerk's Office, United States District Court for the District of Colorado, Alfred A. Arraj Courthouse, 901 19th Street, Denver, CO 80294. In addition, the proposed Consent Decree may be examined electronically at http://www.justice.gov/enrd/consent-decrees.

Cherie Rogers,
Assistant Section Chief, Environmental Defense Section, Environment and Natural Resources Division.

[FR Doc. 2021-06044 Filed 3-23-21; 8:45 am]

BILLING CODE 4410-CW-P